DEPARTMENT OF ENERGY

Federal Energy Regulatory Commission

[Docket No. IC22-3-000]

Commission Information Collection Activities (FERC Form Nos. 1, 1T, 1-F, 1-FT, 3-Q, and 3-QT); Comment Request; Extensions

AGENCY: Federal Energy Regulatory Commission, Department of Energy.

ACTION: Notice of information collections and request for comments.

SUMMARY: In compliance with the requirements of the Paperwork Reduction Act of 1995 (PRA), the Federal Energy Regulatory Commission (Commission or FERC) is soliciting public comment on the currently approved information collections, FERC Form Nos. 1 and 1T (Annual Report of Major Electric Utilities, Licensees, and Others), 1-F and 1-FT (Annual Report for Nonmajor Public Utilities and Licensees), and 3-Q and 3-QT (Quarterly Financial Report of Electric Utilities, Licensees, and Natural Gas Companies).

DATES: Comments on the collections of information are due January 24, 2022.

ADDRESSES: You may submit comments (identified by Docket No. IC22-3-000 and the form) by either of the following methods:

• Electronic Filing: Documents must be filed in acceptable native applications and print-to-PDF, but not in scanned or picture format.

• For those unable to file electronically, comments may be filed by USPS mail or by hand (including courier) delivery:

○ Mail via U.S. Postal Service only, addressed to: Federal Energy Regulatory Commission, Secretary of the Commission, 888 First Street NE, Washington, DC 20426.

○ Hand (including courier) delivery to: Federal Energy Regulatory Commission, 12225 Wilkins Avenue, Rockville, MD 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, and telephone at (202) 502-8663.

¹ Due to expiration dates in 2019 for many of the Commission's financial forms, the renewal work for several of the forms was in process or pending at OMB during the 2019 Forms Refresh rulemaking effort in Docket No. RM19-12-000. The simultaneous OMB Paperwork Reduction Act processes required the assignment of alternate temporary information collection numbers (“T”) for some collections at the proposed and/or final rule stages. Accordingly, FERC Form Nos. 1T, 1-FT, and 3-QT represent the additional burden associated with the final rule in RM19-12-000. Revisions to the Filing Process for Comm'n Forms, Order No. 859, 167 FERC ¶ 61,241 (2019).

SUPPLEMENTARY INFORMATION:¹

Type of Request: Three-year extensions of FERC Form Nos. 1, 1T, 1-F, 1-FT, 3-Q, and 3Q-T with no changes to the current reporting requirements.²

² For purposes of this notice, unless otherwise stated, FERC Form Nos. 1 and 1T are collectively referred to as “FERC Form No. 1,” FERC Form Nos. 1-F and 1-FT are collectively referred to as “FERC Form No. 1-F,” and FERC Form Nos. 3-Q (electric and natural gas) and 3-QT (electric and natural gas) are collectively referred to as “FERC Form No. 3-Q.” Because this renewal will incorporate the requirements and burden represented by the 1T, 1-FT, and 3-QT into FERC Form Nos. 1, 1-F, and 3-Q, respectively, it is anticipated that the Commission will eventually seek to retire the 1T, 1-FT, and 3-QT as duplicative.

FERC Form No. 1, Annual Report of Major Electric Utilities, Licensees, and Others

OMB Control Nos. and Titles: 1902-0021 (FERC Form No. 1, Annual Report of Major Electric Utilities, Licensees, and Others) and 1902-0311 (FERC Form No. 1T, Annual Report of Major Electric Utilities, Licensees and Others—Modifications to Form 1 due to Final Rule in Docket No. RM19-12-000).

Abstract:

FERC Form No. 1, Annual Report of Major Electric Utilities, Licensees, and Others

FERC Form No. 1 is a comprehensive financial and operating report submitted annually for electric rate regulation, market oversight analysis, and financial audits by major electric utilities, licensees, and others. Major is defined as having in each of the last three consecutive calendar years, sales or transmission services that exceed one of the following: (1) One million megawatt-hours of total sales; (2) 100 megawatt-hours of sales for resale; (3) 500 megawatt-hours of power exchanges delivered; or (4) 500 megawatt-hours of wheeling for others (deliveries plus losses).³

³ As detailed in 18 CFR 101 (Uniform System of Accounts Prescribed for Public Utilities and Licensees Subject to the Provision of the Federal Power Act, General Instructions) and 18 CFR 141.1.

FERC Form No. 1 is designed to collect financial and operational information and is made available to the public. FERC Form No. 1 includes a basic set of financial statements:

• Comparative Balance Sheet,

• Statement of Income,

• Statement of Retained Earnings,

• Statement of Cash Flows,

• Statements of Accumulated Comprehensive Income,

• Comprehensive Income, and Hedging Activities, and

• Notes to Financial Statements.

Supporting schedules contain:

• Supplementary information and outlines of corporate structure and governance,

• Information on formula rates, and

• Description of important changes during the year.

Other schedules provide:

• Information on revenues and the related quantities of electric sales and electricity transmitted,

• Account balances for all electric operation and maintenance expenses,

• Selected plant cost data, and

• Other statistical information.

XBRL, Order No. 859, and FERC Form No. 1

Previously, FERC Form No. 1 filers would transmit the information in the form to the Commission using a software application called Visual FoxPro (VFP). This application is no longer supported by its developer, Microsoft Corporation. As a result, in April 2015, the Commission issued an order announcing its intention to replace the VFP filing format for certain Commission forms (including FERC Form No. 1) with an eXtensible Markup Language (XML)-based filing format. On June 20, 2019, the Commission issued Order No. 859, which adopted eXtensible Business Reporting Language (XBRL) as the standard for filing FERC Form No. 1 and certain other Commission forms.⁴

⁴ Revisions to the Filing Process for Comm'n Forms, Order No. 859, 167 FERC ¶ 61,241 (2019).

Type of Respondent: Major electric utilities.

Estimate of Annual Burden: ⁵ The Commission estimates the annual burden and cost ⁶ for FERC Form No. 1 as follows:

⁵ Burden is defined as the total time, effort, or financial resources expended by persons to generate, maintain, retain, disclose, or provide information to or for a Federal agency. For further explanation of what is included in the information collection burden, refer to Title 5 Code of Federal Regulations 1320.3. The burden hours and costs are rounded for ease of presentation.

⁶ The cost is based on FERC's 2021 Commission-wide average salary cost (salary plus benefits) of $87.00/hour. The Commission staff believes the FERC FTE (full-time equivalent) average cost for wages plus benefits is representative of the corresponding cost for the industry respondents.

FERC Form No. 1-F, Annual Report for Nonmajor Public Utilities and Licensees

OMB Control Nos. and Titles: 1902-0029 (FERC Form No. 1-F, Annual Report for Nonmajor Public Utilities and Licensees) and 1902-0312 (FERC Form No. 1-FT, Annual Report for Nonmajor Public Utilities and Licensees, Modifications to FERC Form No. 1-F due to Final Rule in Docket No. RM19-12-000).

Abstract: FERC Form No. 1-F is a financial and operating report submitted annually for electric rate regulation, market oversight analysis, and financial audits by Nonmajor electric utilities and licensees. Nonmajor is defined as utilities and licensees that are not classified as Major, and having total sales in each of the last three consecutive years of 10,000 megawatt-hours or more.⁷

⁷ As detailed in 18 CFR 101 (Uniform System of Accounts Prescribed for Public Utilities and Licensees Subject to the Provision of the Federal Power Act, General Instructions) and 18 CFR 141.2.

FERC Form No. 1-F is designed to collect financial and operational information and is made available to the public. FERC Form No. 1-F includes a basic set of financial statements:

• Comparative Balance Sheet,

• Statement of Retained Earnings,

• Statement of Cash Flows,

• Statement of Comprehensive Income and Hedging Activities, and

• Notes to Financial Statements.

Supporting schedules contain:

• Supplementary information and include revenues and the related quantities of electric sales and electricity transmitted,

• Account balances for all electric operation and maintenance expenses,

• Selected plant cost data, and

• Other statistical information.

XBRL, Order No. 859, and FERC Form No. 1-F

Previously, FERC Form No. 1-F filers would transmit the information in the form to the Commission using a software application called Visual FoxPro (VFP). This application is no longer supported by its developer, Microsoft Corporation. As a result, in April 2015, the Commission issued an order announcing its intention to replace the VFP filing format for certain Commission forms (including FERC Form No. 1-F) with an XML-based filing format. On June 20, 2019, the Commission issued Order No. 859, which adopted XBRL as the standard for filing FERC Form No. 1-F and other Commission forms.⁸

⁸ Revisions to the Filing Process for Comm'n Forms, Order No. 859, 167 FERC ¶ 61,241 (2019).

Type of Respondent: Nonmajor electric utilities.

Estimate of Annual Burden: The estimated annual burden and cost follow. (The estimated hourly cost used for FERC Form No. 1-F is $87 (for wages plus benefits) and is described above, under FERC Form No. 1.) The burden hours and costs are rounded for ease of presentation.

FERC Form No. 3-Q, Quarterly Financial Report of Electric Utilities, Licensees, and Natural Gas Companies

OMB Control Nos. and Titles: 1902-0205 (FERC Form No. 3-Q, Quarterly Financial Report of Electric Utilities, Licensees, and Natural Gas Companies) and 1902-0313 (FERC Form No. 3-QT, Quarterly Financial Report-Electric and Gas, modifications to FERC Form No. 3-Q due to Final Rule in Docket No. RM19-12-000).

Abstract: FERC Form No. 3-Q is a quarterly financial and operating report for rate regulation, market oversight analysis, and financial audits which supplements (a) FERC Form Nos. 1 and 1-F, for the electric industry, or (b) FERC Form No. 2 (Annual Report for Major Natural Gas Companies; OMB Control No. 1902-0028) and FERC Form No. 2-A (Annual Report for Nonmajor Natural Gas Companies; OMB Control No. 1902-0030), for the natural gas industry. FERC Form No. 3-Q is submitted for all Major and Nonmajor electric utilities, licensees, and natural gas companies.⁹

⁹ 18 CFR 260.1(b) states that for natural gas companies as defined by the Natural Gas Act, Major pertains to a company whose combined gas transported or stored for a fee exceed 50 million Dth in each of the three previous calendar years. 18 CFR 260.2(b) states that for natural gas companies as defined by the Natural Gas Act, Non-Major pertains to a company not meeting the filing threshold for FERC Form No. 2, but having total gas sales or volume transactions exceeding 200,000 Dth in each of the three previous calendar years.

FERC Form No. 3-Q includes a basic set of financial statements:

• Comparative Balance Sheet,

• Statement of Income and Statement of Retained Earnings,

• Statement of Cash Flows,

• Statement of Comprehensive Income and Hedging Activities, and

• Supporting schedules containing supplementary information.

Electric respondents report:

• Revenues and the related quantities of electric sales and electricity transmitted,

• Account balances for all electric operation and maintenance expenses,

• Selected plant cost data, and

• Other statistical information.

Natural gas respondents report:

• Monthly and quarterly quantities of gas transported and associated revenues,

• Storage, terminalling, and processing services,

• Natural gas customer accounts and details of service, and

• Operational expenses, depreciation, depletion, and amortization of gas plant.

XBRL, Order No. 859, and FERC Form No. 3-Q

Previously, FERC Form No. 3-Q filers would transmit the information in the form to the Commission using a software application called Visual FoxPro (VFP). This application is no longer supported by its developer, Microsoft Corporation. As a result, in April 2015, the Commission issued an order announcing its intention to replace the VFP filing format for certain Commission forms (including FERC Form No. 3-Q) with an XML-based filing format. On June 20, 2019, the Commission issued Order No. 859, which adopted XBRL as the standard for filing these Commission forms.¹⁰

¹⁰ Revisions to the Filing Process for Comm'n Forms, Order No. 859, 167 FERC ¶ 61,241 (2019).

Type of Respondent: Major and nonmajor electric utilities, licensees, and natural gas companies.

Estimate of Annual Burden: The estimated annual burden and cost (as rounded) follow. (The estimated hourly cost used for FERC Form No. 3-Q is $87 (for wages plus benefits) and is described above, under FERC Form No. 1.) The burden hours and costs are rounded for ease of presentation. The quarterly filings are generally a subset of the annual filings. For this reason, the XBRL burden (“3-QT”) hours are “0” because the burden associated with the 3-QT is already incorporated into other burden numbers for FERC Form No. 1 and FERC Form No. 2.

BILLING CODE 6717-01-P

For the FERC Form 3-Q (electric and natural gas), the total average annual burden hours is 185,031, and the total annual cost is $16,097,697.

Comments: Comments are invited on: (1) Whether the collections of information are necessary for the proper performance of the functions of the Commission, including whether the information will have practical utility; (2) the accuracy of the agency's estimates of the burden and cost of the collections of information, including the validity of the methodology and assumptions used; (3) ways to enhance the quality, utility, and clarity of the information collections; and (4) ways to minimize the burden of the collections of information on those who are to respond, including the use of automated collection techniques or other forms of information technology.

Dated: November 18, 2021.
Debbie-Anne A. Reese,
Deputy Secretary.

[FR Doc. 2021-25683 Filed 11-23-21; 8:45 am]

BILLING CODE 6717-01-C